SOCIAL SECURITY ADMINISTRATION

20 CFR Parts 404 and 416

[Docket No. SSA-2018-0026]

RIN 0960-AI27

Rules Regarding the Frequency and Notice of Continuing Disability Reviews; Extension of Comment Period

AGENCY: Social Security Administration.

ACTION: Proposed rule; extension of comment period.

SUMMARY: On November 18, 2019, we published the proposed rule Rules Regarding the Frequency and Notice of Continuing Disability Reviews in the Federal Register, and solicited public comments. We provided a 60-day comment period ending January 17, 2020. We are extending the comment period for 15 days.

DATES: The comment period for the proposed rule published November 18, 2019, at 84 FR 63588, is extended. Comments should be received on or before January 31, 2020.

ADDRESSES: You may submit comments by any one of three methods—internet, fax, or mail. Do not submit the same comments multiple times or by more than one method. Regardless of which method you choose, please state that your comments refer to Docket No. SSA-2018-0026 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2018-0026 and then submit your comments. The system will issue you a tracking number to confirm your submission. You will not be able to view your comment immediately because we must post each submission manually. It may take up to a week for your comments to be viewable.

2. Fax: Fax comments to (410) 966-2830.

3. Mail: Address your comments to the Office of Regulations and Reports Clearance, Social Security Administration, 3100 West High Rise Building, 6401 Security Boulevard, Baltimore, Maryland 21235-6401.

Comments are available for public viewing on the Federal eRulemaking portal at http://www.regulations.gov or in person, during regular business hours, by arranging with the contact person identified below.

FOR FURTHER INFORMATION CONTACT: Cheryl A. Williams, Office of Disability Policy, Social Security Administration, 6401 Security Boulevard, Baltimore, MD 21235-6401, (410) 965-1020. For information on eligibility or filing for benefits, call our national toll-free number, 1-800-772-1213 or TTY 1-800-325-0778, or visit our internet site, Social Security Online, at http://www.socialsecurity.gov.

Andrew Saul,
Commissioner of Social Security.

[FR Doc. 2019-26485 Filed 12-9-19; 8:45 am]

BILLING CODE 4191-02-P